DEPARTMENT OF AGRICULTURE

Food and Nutrition Service

7 CFR Part 246

[FNS-2009-0001]

RIN 0584-AD71

Special Supplemental Nutrition Program for Women, Infants and Children (WIC): Vendor Cost Containment

AGENCY: Food and Nutrition Service, USDA.

ACTION: Final rule; correction.

SUMMARY: This rule makes administrative corrections to a final rule published in the Federal Register on October 8, 2009, entitled “Special Supplemental Nutrition Program for Women, Infants and Children (WIC): Vendor Cost Containment.”

DATES: Effective Date: March 30, 2010.

FOR FURTHER INFORMATION CONTACT: Sandra Clark, Chief, Policy and Program Development Branch, Supplemental Food Programs Division, Food and Nutrition Service, USDA, 3101 Park Center Drive, Room 528, Alexandria, Virginia 22302, (703) 305-2746, or Sandy.Clark@fns.usda.gov.

SUPPLEMENTARY INFORMATION: The Food and Nutrition Service published a final rule in the Federal Register, entitled “Special Supplemental Nutrition Program for Women, Infants and Children (WIC): Vendor Cost Containment,” 74 FR 51745, on October 8, 2009. Pages 51754 and 51758 stated that two sentences would be added at the end of § 246.12 (g)(4)(i)(D). These two sentences were inadvertently omitted from the regulatory text of paragraph (g)(4)(i)(D) set forth in the final rule published on October 8, 2009. This final rule correction adds the two omitted sentences to § 246.12 (g)(4)(i)(D).

List of Subjects in 7 CFR Part 246

Administrative practice and procedure, Civil rights, Food assistance programs, Grants programs—health, Indians, Infants and children, Maternal and child health, Nutrition, Penalties, Reporting and recordkeeping requirements, Women.

Accordingly 7 CFR part 246 is corrected by making the following correcting amendment:

PART 246—SPECIAL SUPPLEMENTAL NUTRITION PROGRAM FOR WOMEN, INFANTS, AND CHILDREN

1. The authority citation for part 246 continues to read as follows:

Authority: 42 U.S.C. 1786.

2. Section 246.12 is amended by adding two sentences at the end of paragraph (g)(4)(i)(D) to read as follows:

§ 246.12 Food delivery systems.

* * * * *

(g) * * *

(4) * * *

(i) * * *

(D) * * * A State agency may exclude partially-redeemed food instruments from a quarterly cost neutrality assessment based on an empirical methodology approved by FNS. A State agency may not exclude food instruments from the quarterly cost neutrality assessment based on a rate of partially-redeemed food instruments.

* * * * *

Dated: March 22, 2010.
Julia Paradis,
Administrator, Food and Nutrition Service.

[FR Doc. 2010-6977 Filed 3-29-10; 8:45 am]

BILLING CODE 3410-30-P